DEPARTMENT OF THE TREASURY

Internal Revenue Service

Open Meeting of the Area 2 Taxpayer Advocacy Panel (Including the States of Delaware, North Carolina, South Carolina, New Jersey, Maryland, Pennsylvania, Virginia, West Virginia and the District of Columbia)

AGENCY: Internal Revenue Service (IRS), Treasury.

ACTION: Notice of meeting.

SUMMARY: An open meeting of the Area 2 Taxpayer Advocacy Panel will be conducted. The Taxpayer Advocacy Panel is soliciting public comments, ideas, and suggestions on improving customer service at the Internal Revenue Service.

DATES: The meeting will be held Tuesday, April 22, 2008, Wednesday, April 23, 2008, and Thursday, April 24, 2008.

FOR FURTHER INFORMATION CONTACT: Inez E. DeJesus at 1-888-912-1227, or 954-423-7977.

SUPPLEMENTARY INFORMATION: Notice is hereby given pursuant to section 10(a)(2) of the Federal Advisory Committee Act, 5 U.S.C. App. (1988) that an open meeting of the Area 2 Taxpayer Advocacy Panel will be held Tuesday, April 22, 2008, from 1 p.m. to 5 p.m., Wednesday, April 23, 2008, from 8 a.m. to 5 p.m., and Thursday, April 24, 2008, from 8 a.m. to noon Eastern Time in Baltimore, MD. For information or to confirm attendance, notification of intent to attend the meeting must be made with Inez E. DeJesus. Ms. DeJesus may be reached at 1-888-912-1227 or 954-423-7977, or you can write to Inez DeJesus, TAP Office, 1000 South Pine Island Road, Suite 340, Plantation, FL 33324, or post comments to the Web site: http://www.improveirs.org.

The agenda will include the following: Various IRS issues.

Dated: February 27, 2008.
Sandra L. McQuin,
Acting Director, Taxpayer Advocacy Panel.

[FR Doc. E8-4291 Filed 3-5-08; 8:45 am]

BILLING CODE 4830-01-P